DEPARTMENT OF DEFENSE

Defense Acquisition Regulations System

48 CFR Part 252

[Docket DARS-2022-0030]

RIN 0750-AL67

Defense Federal Acquisition Regulation Supplement: Update of Challenge Period for Validation of Asserted Restrictions on Technical Data and Computer Software (DFARS Case 2022-D016); Extension of Comment Period

AGENCY: Defense Acquisition Regulations System, Department of Defense (DoD).

ACTION: Advance notice of proposed rulemaking; extension of comment period.

SUMMARY: DoD published an advance notice of proposed rulemaking on December 16, 2022, seeking public input on a potential revision to the Defense Federal Acquisition Regulation Supplement (DFARS) to implement a section of the National Defense Authorization Act for Fiscal Year 2012 that addresses the validation of proprietary data restrictions. The deadline for submitting comments is being extended to provide additional time for interested parties to provide comments.

DATES: The comment period for the advance notice of proposed rulemaking published December 16, 2022, at 87 FR 77055, is extended. Comments on the advance notice of proposed rulemaking should be submitted in writing to the address shown in ADDRESSES on or before March 16, 2023, to be considered in the formation of a proposed rule.

ADDRESSES: Submit comments identified by DFARS Case 2022-D016, using any of the following methods:

○ Federal eRulemaking Portal: https://www.regulations.gov. Search for “DFARS Case 2022-D016.” Select “Comment” and follow the instructions to submit a comment. Please include “DFARS Case 2022-D016” on any attached documents.

○ Email: osd.dfars@mail.mil. Include DFARS Case 2022-D016 in the subject line of the message.

Comments received generally will be posted without change to https://www.regulations.gov, including any personal information provided. To confirm receipt of your comment(s), please check https://www.regulations.gov, approximately two to three days after submission to verify posting.

FOR FURTHER INFORMATION CONTACT: David E. Johnson, telephone 202-913-5764.

SUPPLEMENTARY INFORMATION: On December 16, 2022, DoD published an advance notice of proposed rulemaking (ANPR) in the Federal Register at 87 FR 77055 seeking public input on potential DFARS changes to implement section 815(b) of the National Defense Authorization Act for Fiscal Year 2012 (Pub. L. 112-81). Section 815(b) amended 10 U.S.C. 2321 (currently 10 U.S.C. 3782) by increasing the validation period for asserted restrictions from three years to six years. Section 815(b) also amended 10 U.S.C. 2321 to provide an exception to the prescribed time limit for validation of asserted restrictions if the technical data involved are the subject of a fraudulently asserted use or release restriction. The comment period for the ANPR is extended to March 16, 2023, to provide additional time for interested parties to comment on the potential DFARS changes.

List of Subjects in 48 CFR Part 252

Government procurement.

Jennifer D. Johnson,
Editor/Publisher, Defense Acquisition Regulations System.

[FR Doc. 2023-01814 Filed 1-27-23; 8:45 am]

BILLING CODE 5001-06-P